DEPARTMENT OF ENERGY

Office of Arms Control and Nonproliferation; Proposed Subsequent Arrangement

AGENCY: Department of Energy.

ACTION: Subsequent Arrangement.

SUMMARY: This notice is being issued under the authority of section 131 of the Atomic Energy Act of 1954, as amended (42 U.S.C. 2160). The Department is providing notice of a proposed “subsequent arrangement” under Article 10 paragraph 3 of the Agreement for Cooperation Between the Government of the United States of America and the Government of the Republic of Korea Concerning Civil Uses of Atomic Energy, and the Agreement for Cooperation in the Peaceful Uses of Nuclear Energy between the United States and the European Atomic Energy Community (EURATOM).

This subsequent arrangement concerns the retransfer of atomized uranium-molybdenum powder, containing 1,564.76 g uranium (307.87 g uranium-235) from the Korea Atomic Energy Research Institute (KAERI) to the Compagnie pour l'Etude el la Realleation de Combustibles Atomiques (CERCA), Romans, France. The material, which is located at and was prepared by KAERI, will be used at the CERCA facility for the formability test of plate-type nuclear fuel as part of a Reduced Enrichment for Research and Test Reactors (RERTR) program.

In accordance with section 131 of the Atomic Energy Act of 1954, as amended, we have determined that this subsequent arrangement will not be inimical to the common defense and security.

This subsequent arrangement will take effect no sooner than fifteen days after the publication of this notice.

Dated: January 3, 2002.
For the Department of Energy.
Jon Phillips,
Acting Director, Office of Nonproliferation Policy.

[FR Doc. 02-2825 Filed 2-5-02; 8:45 am]

BILLING CODE 6450-01-P